DEPARTMENT OF ENERGY

Federal Energy Regulatory Commission

[Docket No. EL15-86-000]

ITC Grid Development LLC; Notice of Petition for Declaratory Order

Take notice that on July 28, 2015, pursuant to rule 207(a) of the Federal Energy Regulatory Commission's (Commission) Rules of Practice and Procedure and sections 366.3(d) and 366.4(b)(3) of the Commission's regulations, 18 CFR 385.207(a), 366.3(d), and 366.4(b)(3), ITC Grid Development LLC (ITC Grid), filed a petition for declaratory order (petition) seeking a Commission ruling: (1) That binding revenue requirement bids selected as the result of Commission-approved, Order No. 1000-compliant, and demonstrably competitive transmission project selection processes will be deemed just and reasonable when filed at the Commission as a stated rate pursuant to Federal Power Act (FPA) section 205; and (2) that such binding bids are entitled to protection under the Mobile-Sierra standard, and may not subsequently be changed by means of a complaint filed under FPA section 206 unless required by the public interest. ITC Grid requests that the Commission rule on this petition within 90 days of when its petition was filed, or by October 26, 2015, in order to facilitate ITC Grid's participation in upcoming competitive project solicitations, as more fully explained in its petition. .

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on August 27, 2015.

Dated: July 29, 2015.
Kimberly D. Bose,
Secretary.

[FR Doc. 2015-19060 Filed 8-3-15; 8:45 am]

BILLING CODE 6717-01-P